DEPARTMENT OF HOMELAND SECURITY

Coast Guard

[Docket No. USCG-2013-0193]

Cooperative Research and Development Agreement: Joint Technical Demonstration of Tactical Data Link Range Enhancement Software

AGENCY: Coast Guard, DHS.

ACTION: Notice of intent; request for public comments.

SUMMARY: The Coast Guard is announcing its intent to enter into a Cooperative Research and Development Agreement with Engility Corporation (Engility) to develop, demonstrate, evaluate, and document contributions of tactical data link (TDL) range enhancement software technologies to improve operational effectiveness and communications interoperability (e.g., situational awareness, digital command and control, etc.) among forces including Coast Guard and other Department of Homeland Security components, Department of Defense, as well as other Federal, State, local, Tribal, and coalition forces. While the Coast Guard is currently considering partnering with Engility, we are soliciting public comment on the possible nature of and participation of other parties in the proposed CRADA. In addition, the Coast Guard also invites other potential non-Federal participants, who have the interest and capability to bring similar contributions to this type of research, to consider submitting proposals for consideration in similar CRADAs.

DATES: Comments and related material on the proposed CRADA must either be submitted to our online docket via http://www.regulations.gov on or before May 3, 2013, or reach the Docket Management Facility by that date.

Synopses of proposals regarding future, similar CRADAs must reach the Docket Management Facility on or before September 30, 2013.

ADDRESSES: You may submit comments on this notice identified by docket number USCG-2013-0193 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand Delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, contact Judith R. Connelly, Project Official, C4ISR Branch, TDL Range Enhancement Software Technologies, U.S. Coast Guard Research and Development Center, 1 Chelsea Street, New London, CT 06320, telephone 860-271-2643, email Judith.R.Connelly@uscg.mil. If you have questions on viewing or submitting material to the docket, call Ms. Barbara Hairston, Program Manager, Docket Operations, telephone 202-366-9826.

SUPPLEMENTARY INFORMATION:

Public Participation and Request for Comments

We encourage you to submit comments and related material on this notice. All comments received will be posted, without change, to http://www.regulations.gov and will include any personal information you have provided.

Do not submit detailed proposals for future CRADAs to the Docket Management Facility. Potential non-Federal CRADA participants should submit these documents to Judith R. Connelly, U.S. Coast Guard Research and Development Center, 1 Chelsea Street, New London, CT 06320, email Judith.R.Connelly@uscg.mil.

Submitting Comments

If you submit a comment, please include the docket number for this notice (USCG-2013-0193), and provide a reason for each suggestion or recommendation. You may submit your comments and material online via http://www.regulations.gov, or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov and locate this notice by using “USCG-2013-0193” as your search term. Click the “Comment Now” box opposite this notice and follow the instructions to submit your comment. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing Comments and Related Material

To view the comments and related material, go to http://www.regulations.gov and locate this notice by using “USCG-2013-0193” as your search term. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act, system of records notice regarding our public dockets in the January 17, 2008, issue of the Federal Register (73 FR 3316).

Cooperative Research and Development Agreements

Cooperative Research and Development Agreements (CRADAs), are authorized by the Federal Technology Transfer Act of 1986 (Pub. L. 99-502, codified at 15 U.S.C. 3710(a)). A CRADA promotes the transfer of technology to the private sector for commercial use as well as specified research or development efforts that are consistent with the mission of the Federal parties to the CRADA. The Federal party or parties agree with one or more non-Federal parties to share research resources, but the Federal party does not contribute funding. The Department of Homeland Security (DHS), as an executive agency under 5 U.S.C. 105, is a Federal agency for purposes of 15 U.S.C. 3710(a) and may enter into a CRADA. The Secretary of DHS (Secretary) delegated authority to the Commandant of the Coast Guard to carry out the functions vested in the Secretary by section 2 of the Federal Technology Transfer Act of 1986, which authorizes agencies to permit their laboratories to enter into CRADAs (see DHS Delegation No. 0160.1, para. 2.B(34)). The Commandant of the Coast Guard has delegated authority in this regard to the Coast Guard's Research and Development Center (R&DC).

CRADAs are not procurement contracts. Care is taken to ensure that CRADAs are not used to circumvent the contracting process. CRADAs have a specific purpose and should not be confused with other types of agreements such as procurement contracts, grants, and cooperative agreements.

Goal of Proposed CRADA

Under the proposed CRADA, the Coast Guard's R&DC would collaborate with one or more non-Federal participants. Together, the R&DC and the non-Federal participants would identify and investigate the advantages, disadvantages, required technology enhancements, performance, and other issues associated with TDL range enhancement software to enhance operational effectiveness and efficiency.

The R&DC, with the non-Federal participants, will create and employ a structured and collaborative test protocol to better understand the potential advantages of TDL capabilities throughout Coast Guard mission areas. The non-Federal participants will investigate the use of a wide range of TDL capabilities in table-top exercises followed by controlled field tests, and finally longer-duration operational testing on actual Coast Guard platforms.

Party Contributions

We anticipate that the Coast Guard's contributions under the proposed CRADA will include the following:

(1) Lead the development of the test objectives and test plan for the specific work to be accomplished under the CRADA;

(2) Conduct the “field demonstration” analysis of the mutually-agreeable representative TDL range enhancement software using information networks, surveillance/collection platforms, and search and rescue units, in accordance with the CRADA test plan;

(3) Define performance metrics and parameters used to understand the potential improvements of the mutually-agreeable representative TDL range enhancement software in accordance with the CRADA test plan;

(4) Coordinate Coast Guard platform engineering changes and enterprise architecture modifications to incorporate mutually-agreeable representative TDL range enhancement software and supporting hardware configurations in accordance with the CRADA test plan;

(5) Identify cooperative sortie opportunities with Coast Guard and Department of Defense (DOD) search and surveillance assets to understand the potential improvements of the mutually-agreeable representative TDL range enhancement software to link collected data with search platforms outside the information enterprise network;

(6) Develop the CRADA Final Report, which will document the methodologies, findings, conclusions, and recommendations of this CRADA work.

We anticipate that the non-Federal participants' contributions under the proposed CRADA will include the following:

(1) Provide input into the Coast Guard-developed CRADA test objectives and CRADA test plan;

(2) Provide mutually-agreeable representative TDL range enhancement software and supporting hardware configurations (as required) and conduct preliminary data information sharing validation and equipment “bench testing” in accordance with the CRADA test plan;

(3) Provide expertise needed for platform installation of mutually-agreeable representative TDL range enhancement software and supporting hardware, along with on-site technical support throughout the demonstration;

(4) Provide on-site mission specific training for Coast Guard platform operators throughout the operational demonstration; and

(5) Provide input into the Coast Guard-developed CRADA Final Report.

Selection Criteria

The Coast Guard reserves the right to select for CRADA participants all, some, or none of the proposals in response to this notice. The Coast Guard will provide no funding for reimbursement of proposal development costs. Proposals (or any other material) submitted in response to this notice will not be returned. Proposals submitted are expected to be unclassified and have no more than four single-sided pages (excluding cover page and resumes). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering Engility Corporation for participation in this CRADA. This consideration is based on the fact that Engility has demonstrated its software-only solution, its product's compatibility with the Coast Guard's situational awareness system, and its product's widespread use throughout the DOD and coalition forces. However, we do not wish to exclude other viable participants from this or future similar CRADAs.

This is a technology transfer/development effort. Presently, the Coast Guard has no plan to procure a TDL capability. Since the goal of this CRADA is to identify and investigate the advantages, disadvantages, required technology enhancements, performance, costs, and other issues associated with using TDL capabilities, non-Federal CRADA participants will not be excluded from any future Coast Guard procurements based solely on their participation in this CRADA.

Special consideration will be given to small business firms/consortia, and preference will be given to business units located in the U.S.

Authority

This notice is issued under the authority of 15 U.S.C. 3710(a), 5 U.S.C. 552(a), and 33 CFR 1.05-1.

Dated: March 25, 2013.
Alan N. Arsenault,
Captain, USCG, Commanding Officer, U.S. Coast Guard Research and Development Center.

[FR Doc. 2013-07681 Filed 4-2-13; 8:45 am]

BILLING CODE 9110-04-P